DEPARTMENT OF TRANSPORTATION

Federal Aviation Administration

14 CFR Part 71

[Docket No. FAA-2024-2268; Airspace Docket No. 24-AAL-95]

RIN 2120-AA66

Revocation of Alaskan Very High Frequency Omnidirectional Range Federal Airway V-447 and Jet Route J-155 and Amendment of Jet Route J-115 in Alaska

AGENCY: Federal Aviation Administration (FAA), DOT.

ACTION: Notice of proposed rulemaking (NPRM).

SUMMARY: This action proposes to revoke Alaskan Very High Frequency Omnidirectional Range (VOR) Federal Airway V-447 and Jet Route J-155 and amend Jet Route J-115 in Alaska. These proposed actions are due to the decommissioning of the Chandalar Lake Nondirectional Radio Beacon (NDB) in Alaska.

DATES: Comments must be received on or before November 18, 2024.

ADDRESSES: Send comments identified by FAA Docket No. FAA-2024-2268 and Airspace Docket No. 24-AAL-95 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Steven Roff, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the airway structure as necessary to preserve the safe and efficient flow of air traffic within the National Airspace System.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Western Service Center, Federal Aviation Administration, 2200 South 216th St., Des Moines, WA 98198.

Incorporation by Reference

Alaskan VOR Federal Airways are published in paragraph 6010 and Jet Routes are published in paragraph 2004 of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

In 2003, Congress enacted the Vision 100-Century of Aviation Reauthorization Act (Pub. L. 108-176), which established a joint planning and development office in the FAA to manage the work related to the Next Generation Air Transportation System (NextGen). Today, NextGen is an ongoing FAA-led modernization of the nation's air transportation system to make flying safer, more efficient, and more predictable.

In support of NextGen, this proposal is part of an ongoing, large, and comprehensive airway modernization project in the state of Alaska. Part of this project is to transition the Alaskan en route navigation structure away from dependency on NDB and move to develop and improve the area navigation (RNAV) route structure. The FAA is planning to decommission the Chandalar Lake NDB in the state of Alaska. As a result, Alaskan Federal Airway V-447 and Jet Route J-155 will become unusable. Additionally, portions of Jet Route J-115 will become unusable.

The FAA proposes to revoke Alaskan Federal Airway V-447 in its entirety. V-447 currently extends between the Fairbanks, AK, Very High Frequency Omnidirectional Range/Tactical Air Navigation (VORTAC) and the Chandalar Lake, AK, NDB. The loss of V-447 is mitigated by the existing T route T-227. A portion of T-227 extends between the Fairbanks, AK, VORTAC and the Deadhorse, AK, VOR/Distance Measuring Equipment (VOR/DME) passing within six miles of the Chandalar Lake NDB. Non-Global Positioning System (GPS) equipped aircraft flying north from Fairbanks VORTAC to Deadhorse VOR/DME may use V-444 via the Bettles, AK, VOR/DME or V-438 via the Fort Yukon, AK, VORTAC.

The FAA proposes to revoke Jet Route J-155 in its entirety. Jet Route J-155 currently extends between the Chandalar Lake NDB and the Nenana, AK, VORTAC. The loss of J-155 is mitigated by existing Q route Q-41. A portion of Q-41 extends from south of the Fairbanks VORTAC to the Deadhorse VOR/DME passing within six miles of the Chandalar Lake NDB. Non-GPS equipped aircraft may use J-515 and J-139 via the Bettles VOR/DME or J-120 and J-507 via the Fort Yukon VORTAC. The distance between the Nenana VOR/DME and the Deadhorse VORTAC prevents the development of a mitigating replacement Jet Route along the existing J-155 route as the distance is too far for signal coverage.

The FAA proposes to amend Jet Route J-115 by revoking the segment impacted by the decommissioning of the Chandalar Lake NDB. A portion of Jet Route J-115 currently extends between the Fairbanks VORTAC and the Deadhorse VOR/DME via the Chandalar Lake NDB. The loss of J-115 between the Fairbanks VORTAC and the Deadhorse VOR/DME is mitigated by existing Q route Q-41. A portion of Q-41 extends from south of the Fairbanks VORTAC to the Deadhorse VOR/DME. Non-GPS equipped aircraft may use J-515 and J-139 via the Bettles VOR/DME or J-120 and J-507 via the Fort Yukon VORTAC. The distance between the Fairbanks VORTAC and the Deadhorse VOR/DME prevents the development of a mitigating replacement Jet Route along the existing J-115 route as the distance is too far for signal coverage.

The Proposal

The FAA is proposing an amendment to 14 CFR part 71 to revoke Alaskan (VOR) Federal Airway V-447 and Jet Route J-155 and amend Jet Route J-115 in Alaska. These proposed actions are due to the decommissioning of the Chandalar Lake NDB in Alaska.

V-447: V-447 currently extends between the Fairbanks, AK, VORTAC and the Chandalar Lake, AK, NDB. The FAA is proposing to revoke V-447 in its entirety.

J-155: Jet Route J-155 currently extends between the Chandalar Lake NDB and the Nenana, AK, VORTAC. The FAA is proposing to revoke V-447 in its entirety.

J-115: Jet Route J-115 currently extends between the Shemya, AK, NDB via the Mount Moffett, AK, NDB, Dutch Harbor, AK, NDB, Cold Bay, AK, VORTAC, King Salmon, AK, VORTAC, the intersection of the King Salmon zero five three and Kenai, AK, VOR/DME two three nine radials, Kenai, AK, VOR/DME, Anchorage, AK, VOR/DME, Big Lake, AK, VORTAC, Fairbanks, AK, VORTAC, Chandalar, AK, NDB and the Deadhorse, AK, VOR/DM0E. The FAA is proposing to revoke the portion between the Fairbanks VORTAC and the Deadhorse VOR/DME.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July31, 2024, and effective September 15, 2024, is amended as follows:

Paragraph 6010 VOR Federal Airways.

* * * * *

V-447 [Removed]

* * * * *

Paragraph 2004

* * * * *

J-155 [Removed]

* * * * *

J-115 [Amended]

From Shemya, AK, NDB; Mount Moffett, AK, NDB; Dutch Harbor, AK, NDB; Cold Bay, AK; King Salmon, AK; INT King Salmon 053° and Kenai, AK, 239° radials; Kenai, AK; Anchorage, AK; Big Lake, AK; Fairbanks, AK.

* * * * *

Issued in Washington, DC, on September 2, 2024.
Frank Lias,
Manager, Rules and Regulations Group.

[FR Doc. 2024-22294 Filed 10-1-24; 8:45 am]

BILLING CODE 4910-13-P